DEPARTMENT OF AGRICULTURE

Forest Service

Notice of New Fee Site; Federal Lands Recreation Enhancement Act, (Title VIII, Pub. L. 108-447)

AGENCY: Chugach National Forest, USDA Forest Service.

ACTION: Notice of New Fee Site.

SUMMARY: The Chugach National Forest will begin charging a fee for the overnight use and occupancy of new campsites and a fee for rental of the new group use pavilion at the Childs Glacier Recreation Area. Projected fees will range from $10 to $30 per night for existing walk in and new campsites and $75 and $150 per day for the new group use pavilion. No Campgrounds currently exist on the Cordova Ranger District. The Childs Glacier Recreation Area redevelopment project, 2005-2006, will provide this new facility for public use. Funds from the rental will be used for the continued operation and maintenance of Childs Glacier Recreation Area.

DATES: Childs Glacier Campground will become available for use August, 2007.

ADDRESSES: Forest Supervisor, Chugach National Forest, 3301 “C” Street, Suite 300, Anchorage, AK 99503.

FOR FURTHER INFORMATION CONTACT: Robert Behrends, Public Services Staff Officer, Cordova Ranger District, 907-424-4729.

SUPPLEMENTARY INFORMATION: The Federal Recreation Lands Enhancement Act (Title VII, Pub. L. 108-447) directed the Secretary of Agriculture to publish a six month advance notice in the Federal Register whenever new recreation fee areas are established.

Childs Glacier Recreation Area is located on the 700,000 acre Copper River Delta and is the most visited site on the Cordova Ranger District. The site is situated in a unique setting beside a large glacier where ice chunks frequently calve into the world renowned Copper River. Currently campground rental on the Chugach National Forest ranges from $10-$22 per night and $130 per day for pavilion rental. A projected range of fees from $10 to $30 per night for camping and $75 to $150 per day for the pavilion is both reasonable and acceptable for a new campground and group use facility providing a unique recreation experience in a dynamic setting in Alaska.

Dated: January 24, 2007.
Joe Meade,
Chugach National Forest Supervisor.

[FR Doc. 07-407 Filed 1-30-07; 8:45 am]

BILLING CODE 3410-11-M